DEPARTMENT OF COMMERCE

National Oceanic and Atmospheric Administration

[RTID 0648-XA091]

Fisheries of the South Atlantic; South Atlantic Fishery Management Council; Public Meeting

AGENCY: National Marine Fisheries Service (NMFS), National Oceanic and Atmospheric Administration (NOAA), Commerce.

ACTION: Notice of public meetings.

SUMMARY: The South Atlantic Fishery Management Council's (Council) will hold a meeting of its Scientific and Statistical Committee (SSC) via webinar. See SUPPLEMENTARY INFORMATION.

DATES: The SSC meeting will take place from 1:30 p.m. to 5 p.m., Tuesday, April 28, 2020; 8:30 a.m. to 5 p.m., Wednesday, April 29, 2020; and 8:30 a.m. to 5 p.m., Thursday, April 30, 2020.

ADDRESSES:

Meeting address: The meeting will be held via webinar.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: The meeting is open to the public via webinar as it occurs. Webinar registration is required. Information regarding webinar registration will be posted to the Council's website at: http://safmc.net/safmc-meetings/scientific-and-statistical-committee-meetings/ as it becomes available. The meeting agenda, briefing book materials, and online comment form will be posted to the Council's website two weeks prior to the meeting. Written comment on SSC agenda topics is to be distributed to the Committee through the Council office, similar to all other briefing materials. Written comment to be considered by the SSC shall be provided to the Council office no later than one week prior to an SSC meeting. For this meeting, the deadline for submission of written comment is 12 p.m., Tuesday, April 21, 2020.

The following agenda items will be addressed by the SSC during the meeting:

1. Approve Terms of Reference, schedules, and request participants for the Red Snapper, Black Sea Bass, and Spanish Mackerel assessments;

2. Discuss the new weight estimation procedure from NOAA Fisheries' Southeast Fisheries Science Center (SEFSC), review the new landings time series for all unassessed species due to this change in weight estimation methodology, consider updating the previous ABC recommendations based on these newly updated landings data, consider the use of the Only Reliable Catch Stocks (ORCS) method and/or revising the time series for Dolphin and Wahoo used for ABC calculations;

3. Review the Southeast Data, Assessment, and Review (SEDAR) 38 King Mackerel stock assessment update, apply Acceptable Biological Catch (ABC) Control Rule and provide fishing level recommendations, and discuss uncertainties;

4. Review the SEDAR 59 Greater Amberjack stock assessment, apply ABC Control Rule and provide fishing level recommendations, and discuss uncertainties;

5. Review the SEDAR 60 Red Porgy assessment, apply ABC Control Rule and provide fishing level recommendations, and discuss uncertainties;

6. Updates on the Council Workplan and discussion of other business as needed.

The SSC will provide guidance to staff and recommendations for Council consideration as appropriate.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 5 business days prior to the meeting.

Note: The times and sequence specified in this agenda are subject to change.

(Authority: 16 U.S.C. 1801 et seq.)

Dated: March 31, 2020.
Tracey L. Thompson,
Acting Deputy Director, Office of Sustainable Fisheries, National Marine Fisheries Service.

[FR Doc. 2020-07010 Filed 4-2-20; 8:45 am]

BILLING CODE 3510-22-P